DEPARTMENT OF THE INTERIOR

National Park Service

Continuation of Visitor Services

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

CONCID# | Concessioner name | Park
CC-CUVA001-94 | Hostelling International—NE Ohio Council (Stanford American Youth Hostel) | Cuyahoga Valley NRA.
CC-ENPA001-91 | Eastern National Park & Monument Assn | Eastern NP & MA.
CC-HOSP004-88 | Libbey Memorial Physical Medicine Center | Hot Springs NP.
CC-ISRO001-95 | Donald E. Kilpela (The Royale, Line, Inc.) | Isle Royale NP.
CC-ISRO007-95 | Clara E. Sivertson (Grand Portage-Isle Royale Transportation Line, Inc.) | Isle Royale NP.
CC-MWRO001-95 | Eastern National Park & Monument Assn | Midwest Regional Office.
CC-OZAR001-88 | Shane and Kimberly Van Steenis (Alley Spring Canoe Rental) | Ozark NSR.
CC-OZAR012-88 | Akers Ferry Canoe Rental, Inc. | Ozark NSR.
CC-OZAR018-97 | Shane Van Steenis (Two Rivers Canoe Rental) | Ozark NSR.
CC-SLBE005-87 | G. Michael Grosvenor (Manitou Island Transit) | Sleeping Bear Dunes NL.
CC-THRO001-98 | Shadow Country Outfitters | Theodore Roosevelt National Park.

EFFECTIVE DATE: January 2, 2005.

FOR FURTHER INFORMATION CONTACT: Jo A. Pendry, Concession Program Manager, National Park Service, Washington, DC 20240, Telephone (202) 513-7156.

Dated: December 17, 2004.
Alfred J. Poole, III,
Acting Associate Director, Administration, Business Practices and Workforce Development.

[FR Doc. 05-3333 Filed 2-18-05; 8:45 am]

BILLING CODE 4312-53-M